DEPARTMENT OF TRANSPORTATION

Federal Aviation Administration

14 CFR Part 39

[Docket No. FAA-2005-20500; Directorate Identifier 2004-NM-235-AD]

RIN 2120-AA64

Airworthiness Directives; Airbus Model A320 Series Airplanes

AGENCY: Federal Aviation Administration (FAA), Department of Transportation (DOT).

ACTION: Notice of proposed rulemaking (NPRM).

SUMMARY: The FAA proposes to adopt a new airworthiness directive (AD) for certain Airbus Model A320 series airplanes. This proposed AD would require post-maintenance bleeding of accumulated air from, or ground functional testing of, the ram air turbine (RAT) system; modifying and reidentifying the airborne ground check module of the RAT system; and replacing the RAT reducer assembly if applicable. This proposed AD is prompted by reports of unsuccessful in-flight RAT tests during which a deployed RAT failed to pressurize the blue hydraulic circuit of the RAT system. We are proposing this AD to prevent failure of the RAT during an in-flight emergency, which could lead to loss of hydraulic and electrical power and reduced controllability of the airplane.

DATES: We must receive comments on this proposed AD by April 7, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-20500; the directorate identifier for this docket is 2004-NM-235-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-20500; Directorate Identifier 2004-NM-235-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A320 series airplanes. The DGAC advises that several operators have reported unsuccessful in-flight ram air turbine (RAT) system tests during which a deployed RAT failed to pressurize the blue hydraulic circuit of the RAT system. Investigation revealed that the warming flow jet plug installed in the RAT main housing can allow free air to accumulate within the RAT system, leading to RAT pump cavitations. This condition, if not corrected, could result in failure of the RAT during an in-flight emergency, which could lead to loss of hydraulic and electrical power and reduced controllability of the airplane.

Relevant Service Information

Airbus has issued All Operators Telex (AOT) A320-29A1112, Revision 01, dated April 8, 2004. The AOT describes procedures for either bleeding accumulated air from the RAT system or doing ground functional testing of the RAT after performing any maintenance on the blue hydraulic circuit of the RAT system.

Airbus has issued Service Bulletin A320-29-1111, dated June 29, 2004. The service bulletin describes procedures for modifying and reidentifying the airborne ground check module (AGCM) of the RAT system; and, for certain airplanes, replacing the reducer assembly with a new reducer assembly. Accomplishing the actions of the service bulletin would end the need for the actions specified by the AOT.

Airbus Service Bulletin A320-29-1111 refers to Hamilton Sundstrand Service Bulletin ERPS13GCM-29-5, dated June 29, 2004, as an additional source of service information for modifying and reidentifying the AGCM.

The DGAC mandated the service information and issued French airworthiness directive F-2004-150, dated September 1, 2004, to ensure the continued airworthiness of these airplanes in France.

Accomplishing the actions specified in the service information is intended to adequately address the unsafe condition.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Costs of Compliance

This proposed AD would affect about 130 airplanes of U.S. registry.

The proposed system bleed/functional test would take about 1 work hour per airplane, at an average labor rate of $65 per work hour. Based on these figures, the estimated cost of the proposed AD for U.S. operators is $8,450, or $65 per airplane.

The proposed AGCM replacement would take about 2 work hours per airplane, at an average labor rate of $65 per work hour. Required parts would be supplied at no charge. Based on these figures, the estimated cost of this proposed action for U.S. operators is $16,900, or $130 per airplane.

The proposed reducer replacement, for subject airplanes, would take about 1 work hour per airplane, at an average labor rate of $65 per work hour. Required parts would be supplied at no charge. Based on these figures, the estimated cost of this proposed action is $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20500; Directorate Identifier 2004-NM-235-AD.

Comments Due Date

(a) The Federal Aviation Administration must receive comments on this AD action by April 7, 2005.

Affected ADs

(b) None.

Applicability

(c) This AD applies to Airbus Model A320 series airplanes, certificated in any category; equipped with Hamilton Sundstrand airborne ground check module (AGCM) having part number 769104, 769105, or 760106 installed; except those airplanes on which Airbus Modification 27189 has been done in production and on which Airbus Modification 28413 has not been done.

Unsafe Condition

(d) This AD was prompted by reports of unsuccessful in-flight ram air turbine (RAT) tests during which a deployed RAT failed to pressurize the blue hydraulic circuit of the RAT system. We are issuing this AD to prevent failure of the RAT system during an in-flight emergency, which could lead to loss of hydraulic and electrical power and reduced controllability of the airplane.

Compliance

(e) You are responsible for having the actions required by this AD performed within the compliance times specified, unless the actions have already been done.

RAT System Bleeding/Functional Test

(f) For airplanes on which maintenance has been performed on the blue hydraulic circuit as of the effective date of this AD: Within 3 days or 20 flight hours after the effective date of this AD, whichever occurs first, bleed accumulated air from, or perform a ground functional test of, the RAT system; by accomplishing all the actions specified in Airbus All Operators Telex (AOT) A320-29A1112, Revision 01, dated April 8, 2004. Thereafter, bleed the blue hydraulic circuit as specified in the AOT within 3 days or 20 flight hours after performing any maintenance on the blue hydraulic circuit.

(g) For airplanes on which maintenance has not been performed on the blue hydraulic circuit as of the effective date of this AD: Bleed the blue hydraulic circuit as specified in the AOT within 3 days or 20 flight hours after performing any maintenance on the blue hydraulic circuit.

Replacement of AGCM and Reducer

(h) Within 35 months after the effective date of this AD, replace the AGCM with a modified and reidentified AGCM; and replace the reducer with a new reducer as applicable; in accordance with the Accomplishment Instructions of Airbus Service Bulletin A320-29-1111, dated June 29, 2004. Replacing the AGCM, and the reducer as applicable, ends the actions required by paragraphs (f) and (g) of this AD.

Note 1: Airbus Service Bulletin A320-29-1111 refers to Hamilton Sundstrand Service Bulletin ERPS13GCM-29-5, dated June 29, 2004, as an additional source of service information for modifying and reidentifying the AGCM.

Alternative Methods of Compliance (AMOCs)

(i) The Manager, International Branch, ANM-116, Transport Airplane Directorate, FAA, has the authority to approve AMOCs for this AD, if requested in accordance with the procedures found in 14 CFR 39.19.

Related Information

(j) French airworthiness directive F-2004-150, dated September 1, 2004, also addresses the subject of this AD.

Issued in Renton, Washington, on February 28, 2005.
Ali Bahrami,
Manager, Transport Airplane Directorate, Aircraft Certification Service.

[FR Doc. 05-4408 Filed 3-7-05; 8:45 am]

BILLING CODE 4910-13-P